POSTAL SERVICE BOARD OF GOVERNORS

Sunshine Act Meeting

Times and Dates: 6 p.m., Monday, March 30, 2009; 10 a.m., Tuesday, March 31, 2009; and 9:45 a.m., Wednesday, April 1, 2009.

Place: Potomac, Maryland, at the Bolger Center for Leadership Development.

Status: Closed.

Matters to be Considered:

Monday, March 30 at 6 p.m. (Closed)

1. Financial Matters.

2. Strategic Issues.

3. Pricing.

4. Personnel Matters and Compensation Issues.

5. Governors' Executive Session—Discussion of prior agenda items and Board Governance.

Tuesday, March 31 at 10 a.m. (Closed)

Continuation of Monday's agenda.

Wednesday, April 1 at 9:45 a.m. (Closed)

Continuation of Monday's agenda.

Contact Person for More Information: Julie S. Moore, Secretary of the Board, U.S. Postal Service, 475 L'Enfant Plaza, SW., Washington, DC 20260-1000. Telephone (202) 268-4800.

Julie S. Moore,
Secretary.

[FR Doc. E9-6333 Filed 3-18-09; 4:15 pm]

BILLING CODE 7710-12-P